NATIONAL SCIENCE FOUNDATION

Astronomy and Astrophysics Advisory Committee; Notice of Meeting

In accordance with the Federal Advisory Committee Act (Pub. L. 92-463, as amended), the National Science Foundation (NSF) announces the following meeting:

Name and Committee Code: Astronomy and Astrophysics Advisory Committee (13883) (Virtual).

Date and Time: February 25, 2025; 10 a.m.-4 p.m.

Place: National Science Foundation, 2415 Eisenhower Avenue, Alexandria, VA 22314.

Members and the public may attend this virtual meeting via Zoom. Attendance information for the meeting will be forthcoming on the AC website at: https://www.nsf.gov/mps/ast/aaac.jsp.

The link for registration for Zoom is: https://nsf.zoomgov.com/webinar/register/WN_ihbu7M8uTYG1GQjf0F6YHw.

Type of Meeting: Open.

Contact Person: Dr. Daniel Fabrycky, Program Director, Division of Astronomical Sciences, Suite W 9176, National Science Foundation, 2415 Eisenhower Avenue, Alexandria, VA 22314; telephone: 703-292-8490.

Purpose of Meeting: To provide advice and recommendations to the National Science Foundation (NSF), the National Aeronautics and Space Administration (NASA) and the U.S. Department of Energy (DOE) on issues within the field of astronomy and astrophysics that are of mutual interest and concern to the agencies. To prepare the annual report.

Agenda: To provide advice and recommendations to the NSF, NASA and DOE on issues within the field of astronomy and astrophysics that are of mutual interest and concern to the agencies. To prepare the annual report.

Dated: January 22, 2025
Crystal Robinson,
Committee Management Officer.

[FR Doc. 2025-01779 Filed 1-27-25; 8:45 am]

BILLING CODE 7555-01-P